ENVIRONMENTAL PROTECTION AGENCY

40 CFR Part 146

[FRL-6863-4]

RIN 2040-AD40

Revision to the Federal Underground Injection Control (UIC) Requirements for Class I-Municipal Wells in Florida

AGENCY: Environmental Protection Agency (EPA).

ACTION: Proposed rule; Extension of comment period.

SUMMARY: EPA is extending the comment period for the proposed rule Revision to the Federal Underground Injection Control (UIC) Requirements for Class I-Municipal Wells in Florida which was published in the Federal Register on July 7, 2000 at 65 FR 42234. The extension of the comment period is for 45 days to provide interested parties additional time to submit written comments on the proposal.

DATES: Comments must be submitted on or before October 20, 2000.

ADDRESSES: Send written comments to Nancy H. Marsh: U.S. Environmental Protection Agency, Region 4; 61 Forsyth St., SW, Atlanta, GA, 30303. Comments may be submitted electronically to marsh.nancy@epa.gov. For additional information see Additional Docket information in the SUPPLEMENTARY INFORMATION section of this Federal Register.

FOR FURTHER INFORMATION CONTACT: For technical inquiries, contact Nancy H. Marsh, Ground Water & UIC Section, EPA Region 4, 61 Forsyth Street, SW, Atlanta, GA 30303 (phone: 404-562-9450; E-mail: marsh.nancy@epa.gov) or Howard Beard, Office of Ground Water and Drinking Water, U.S. Environmental Protection Agency, Ariel Rios Building, 1200 Pennsylvania Avenue, N.W.,Washington, DC 20460 (phone: 202-260-8796; E-mail: beard.howard@epa.gov). For general information, contact the Safe Drinking Water Hotline, phone 800-426-4791. The Safe Drinking Water Hotline is open Monday through Friday, excluding Federal holidays, from 9:00 a.m. to 5:30 p.m. Eastern daylight-saving time.

SUPPLEMENTARY INFORMATION:

Additional Docket Information

When submitting written comments (see ADDRESSES section earlier) please submit an original and three copies of your comments and enclosures (including any references). For an acknowledgment that we have received your information, please include a self-addressed, stamped envelope. EPA will not accept facsimiles (faxes).

The record is available for inspection from 8:30 a.m. to 3:30 p.m. Eastern daylight-saving time, Monday through Friday, excluding legal holidays at the Environmental Protection Agency, Region 4 Library (9th Floor), Sam Nunn Atlanta Federal Center, 61 Forsyth St., SW., Atlanta, GA 30303-8960. For information on how to access Docket materials, please call (404) 562-8190 and refer to the Florida UIC docket.

EPA is also making the docket available to interested parties at EPA's South Florida Office in West Palm Beach. A copy of the docket will be available in Florida until the end of the comment period, October 20, 2000, from 9:00 a.m. to 3:30 p.m. at the following location: Environmental Protection Agency, South Florida Office, 400 N. Congress Ave., Suite 120, West Palm Beach, Florida 33401, for information call (651) 615-4557. Florida Department of Environmental Protection, Twin Towers Office Building, 2600 Blair Stone Road, Tallahassee, FL 32399-2400, for information call (850) 921-9417.

Dated: August 22, 2000.
J. Charles Fox,
Assistant Administrator for Water.

[FR Doc. 00-22519 Filed 8-31-00; 8:45 am]

BILLING CODE 6560-50-P